ENVIRONMENTAL PROTECTION AGENCY

40 CFR Part 52

[EPA-R03-OAR-2017-0598; FRL-9982-85—Region 3]

Approval and Promulgation of Air Quality Implementation Plans; Maryland; Regional Haze Five-Year Progress Report

AGENCY: Environmental Protection Agency (EPA).

ACTION: Proposed rule.

SUMMARY: The Environmental Protection Agency (EPA) is proposing to approve a state implementation plan (SIP) revision submitted by the State of Maryland. Maryland's SIP revision, the Regional Haze Five-Year Progress Report, addresses Clean Air Act (CAA) provisions that require the State to submit periodic reports addressing reasonable progress goals (RPGs) established for regional haze and to make a determination of the adequacy of the State's existing regional haze SIP. Maryland's progress report notes that the State has implemented the measures that are specified in the regional haze SIP which were due to be in place by the date of the progress report. The progress report also notes that visibility in federal Class I areas that may have been affected by emissions from Maryland is improving and that these Class I areas have already met the applicable RPGs for 2018. EPA is proposing approval of Maryland's progress report and its determination that the State's regional haze SIP is adequate to meet these RPGs for the first implementation period, which extends through 2018, and requires no substantive revision. This action is being taken under the CAA.

DATES: Written comments must be received on or before September 26, 2018.

ADDRESSES: Submit your comments, identified by Docket ID No. EPA-R03-OAR-2017-0598 at http://www.regulations.gov, or via email to spielberger.susan@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the “For Further Information Contact” section. For the full EPA public comment policy, information about CBI or multimedia submissions, and general guidance on making effective comments, please visit http://www2.epa.gov/dockets/commenting-epa-dockets.

FOR FURTHER INFORMATION CONTACT: Erin Trouba, (215) 814-2023, or by email at trouba.erin@epa.gov.

SUPPLEMENTARY INFORMATION:

I. Background

States are required to submit a progress report in the form of a SIP revision that evaluates progress towards visibility improvement in the first implementation period, including progress towards the RPGs for each mandatory Class I federal area ¹ (Class I area) within the state and in each Class I area outside the state which may be affected by emissions from within the state. 40 CFR 51.308(g). In addition, the provisions of 40 CFR 51.308(h) require states to submit, at the same time as the 40 CFR 51.308(g) progress report, a determination of the adequacy of the state's existing regional haze SIP. The progress report SIP for the first planning period is due five years after submittal of the initial regional haze SIP. On February 13, 2012, Maryland submitted the State's first regional haze SIP in accordance with 40 CFR 51.308.² On August 9, 2017, Maryland, through the Maryland Department of the Environment (MDE), submitted a progress report, as a revision to its SIP, which detailed the progress made in the first planning period toward implementation of the Long-Term Strategy (LTS) outlined in the 2012 regional haze SIP, the visibility improvement measured at Class I areas affected by emissions from Maryland, and a determination of the adequacy of the State's existing regional haze SIP.

¹ Areas designated as mandatory Class I federal areas consist of national parks exceeding 6,000 acres, wilderness areas and national memorial parks exceeding 5000 acres, and all international parks that were in existence on August 7, 1977 (42 U.S.C. 7472(a)). See 40 CFR part 81, subpart D.

² On July 6, 2012 (77 FR 39938), EPA approved Maryland's regional haze SIP submittal addressing the requirements of the first implementation period for regional haze.

II. Summary of SIP Revision and EPA Analysis

Maryland's regional haze progress report SIP submittal (2017 progress report) addresses the elements for progress reports required under the provisions of 40 CFR 51.308(g) and includes a determination as required by 40 CFR 51.308(h) that the State's existing regional haze SIP requires no substantive revision to achieve the established regional haze visibility improvement and emissions reduction goals for 2018. This section summarizes Maryland's 2017 progress report and EPA's analysis and proposed approval of Maryland's submittal.

A. Regional Haze Progress Report

As required in 40 CFR 51.308(g), Maryland's 2017 progress report evaluated the status of all measures included in the State's 2012 regional haze SIP for achieving RPGs for affected Class I areas. Through consultation, states in the Mid Atlantic/Northeast Visibility Union (MANE-VU),³ including Maryland, were requested to adopt and implement control strategies to assure reasonable progress towards improvement of visibility in the MANE-VU Class I areas. These strategies are commonly referred to as the MANE-VU “Ask.” The MANE-VU “Ask” includes: (1) 90% or more reduction in sulfur dioxide (SO2) emissions at 167 electric generating unit (EGU) “stacks” identified by MANE-VU (or comparable alternative measures), (2) timely implementation of best available retrofit technology (BART) ⁴ requirements, (3) lower sulfur fuel oil (with limits specified for each state), and (4) continued evaluation of other control measures.⁵ The strategies from the “Ask” are the measures that Maryland included in the 2012 regional haze SIP and which are addressed in the 2017 progress report. Maryland addressed the measures listed in the 2012 regional haze SIP through implementing the state-wide Healthy Air Act (HAA),⁶ implementing BART or alternatives to BART, adopting a low-sulfur fuel oil regulation into COMAR 03.03.05.04, and evaluating other control methods to reduce SO2 and nitrogen oxides (NOX).

³ MANE-VU was formed by the Mid-Atlantic and Northeastern states, tribes, and federal agencies to coordinate regional haze planning activities for the region to meet requirements in the CAA and federal regional haze regulations.

⁴ BART eligible sources are those sources which have the potential to emit 250 tons or more of a visibility-impairing air pollutant, were put in place between August 7, 1962 and August 7, 1977, and whose operations fall within one or more of 26 specifically listed source categories.

⁵ The MANE-VU “Ask” was structured around the finding that SO2 emissions were the dominate visibility impairing pollutant at the Northeastern Class I areas and that EGUs comprised the largest SO2 emission sector.

⁶ The HAA, codified at COMAR 26.11.27, was effective as of July 16, 2007 and was approved by EPA into the Maryland SIP on September 4, 2008 (73 FR 51599).

In response to the MANE-VU “Ask” to achieve 90% or more reduction in SO2 emissions at 167 EGU “stacks,” Maryland demonstrates, in the 2017 progress report, that the HAA has been implemented and has provided significant reductions in SO2 and NOX from coal-fired EGUs, including several BART-eligible units. At the BART eligible EGUs, the existing controls were considered BART for NOX, SO2, and particulate matter (PM). The HAA addressed 15 coal-fired EGUs in the state, including the twelve identified within the “Ask's” 167 stacks and all seven of the BART-eligible EGUs in the state.⁷ The HAA established tonnage caps for emissions of NOX and SO2 from 15 coal-fired EGUs, 13 of which are still operating. The HAA's annual SO2 caps were implemented in two phases, first in 2010 and then in 2013. The annual NOX caps were implemented in 2009 and 2012. In the 2017 progress report, Maryland reported that NOX emissions were reduced by 89% from a 2002 baseline from these EGUs and SO2 emissions from these EGUs were reduced by 269,444 tons per year from the 2002 baseline, a 92% reduction from 2002 to 2015. Maryland asserts that the SO2 and NOX emissions reductions under the HAA exceeded reductions that would have been achieved through BART controls alone at the EGUs.

⁷ R. Paul Smith Units 3 & 4 have shut down since the approval of Maryland's regional haze SIP in 2012. The HAA originally addressed 15 units, but currently addresses 13 active EGUs in the state.

The 2017 progress report also addressed implementation of BART and alternatives to BART ⁸ at Maryland's two non-EGU BART eligible source specific units—Holcim Cement and Verso Luke Paper. In the BART analysis for Holcim's Portland cement kiln in Hagerstown, Maryland, the State determined and EPA approved the addition of selective non-catalytic reduction (SNCR) as BART for PM and NOX and the previously installed controls as BART for SO2. See 77 FR 11827 (February 28, 2012). The SIP-approved regulation, COMAR 26.11.30, pertaining to Reasonably Available Control Technology (RACT) for the 2008 ozone National Ambient Air Quality Standards (NAAQS), establishes more stringent NOX limits for Portland Cement Plants in the State, including Holcim Cement. 83 FR 13192 (March 28, 2018). As a result of the RACT requirements, Holcim upgraded its equipment in 2016 from a long-dry kiln to a pre-heater/pre-calciner kiln and installed a SNCR addressing BART requirements for NOX and PM. Holcim is required to meet a limit of 2.4 pounds (lbs) of NOX per ton of clinker on a 30-day rolling average effective April 1, 2017.

⁸ The requirements for alternative measures are established at 40 CFR 51.308(e)(2).

In June 2012, EPA approved BART emission limits for power boiler 25, a BART subject source, at the Verso Luke Paper Mill. 77 FR 39938 (June 13, 2012). In July 2017, EPA removed the previously approved BART requirements for SO2 and NOX from power boiler 25 (No. 25) and replaced them with new, alternative emission requirements as BART.⁹ EPA established an annual SO2 cap for power boiler 25 and approved alternative BART emission limits for SO2 and NOX for power boiler 24 (No. 24): (1) A new BART emission limit of 0.28 pounds per million British thermal units (lbs/mmBtu), measured as an hourly average for SO2; and (2) a new BART emission limit of 0.4 lb/mmBtu, measured on a 30-day rolling average for NOX. 82 FR 35451 (July 31, 2017). The BART PM limit on power boiler No. 25 remains at 0.07 lb/MMBtu.

⁹ The BART limits for power boiler 25 approved in 2012 were 0.07 pounds per million British thermal units (lb/mmBtu) for PM, 0.40 lb/mmBtu on a rolling 30 day average for NOX and 0.44 lb/mmBtu for SO2.

Included in the MANE-VU “Ask” and as a measure in the State's 2012 regional haze SIP was a low-sulfur oil strategy. In 2014, Maryland adopted amendments to COMAR 03.03.05.04, “Specifications for No. 1 and No. 2 Fuel Oil.” The amendments, effective October 13, 2014, lowered the maximum allowable amount of sulfur in #1 and #2 fuel oil in two stages, from 3,000 to 2,000 parts per million (ppm) of sulfur in 2014, and then from 2,000 to 500 ppm of sulfur in 2016. While this strategy does not meet the exact specifications or timeline of the “Ask,” MANE-VU left an option for flexibility in reducing SO2 emissions by implementing other strategies. In the 2012 regional haze SIP, Maryland projected that the reductions achieved by implementing the HAA would greatly exceed projected reductions from fully implementing the “Ask's” low-sulfur fuel oil strategy. Maryland stated it intends to submit this regulation, COMAR 03.03.05.04, for future SIP approval.

In the 2017 progress report, Maryland also mentions EPA approved for the Maryland SIP amendments adopted into COMAR 26.11.38, “Control of NOX emissions from Coal-Fired Electric Generating Units,” which addresses the 2012 regional haze SIP measure to evaluate other control methods to reduce SO2 and NOX. 82 FR 24546 (June 29, 2017). For 13 coal-fired EGUs in the state, Maryland asserts this regulation establishes a system-wide emissions rate of 0.15 lbs/mmBtu on a 30-day rolling average during the ozone season for NOX emissions at all coal-burning EGUs owned by the same company. An additional requirement in COMAR 26.11.38 to optimize controls is monitored by compliance with a 24-hour block emissions limit during ozone season for each coal-burning EGU. Although COMAR 26.11.38 is specifically designed to reduce ozone impacts by reducing NOX emissions, Maryland stated in the 2017 progress report that it believes that this regulation benefits visibility in nearby Class I areas because NOX is a visibility impairing pollutant as well as a precursor to ozone.

EPA finds that Maryland's analysis in its 2017 progress report adequately addresses the applicable provisions under 40 CFR 51.308(g), as the State demonstrated the implementation of control measures in the Maryland regional haze SIP and in the MANE-VU “Ask.”

The provisions under 40 CFR 51.308(g) also require the state to provide analysis of emissions trends of visibility-impairing pollutants from the state's sources by type or category over the past five years based on the most recent updated emissions inventory. In Section 4 of the 2017 progress report, Maryland provided an assessment of the following visibility impairing pollutants: SO2, NOX, volatile organic compounds (VOCs), and fine particulate matter (PM2.5) by category. MANE-VU and Maryland determined that SO2 emissions are the most significant pollutant impacting regional haze in MANE-VU Class I areas, therefore, the bulk of visibility improvement was expected to result from reductions in SO2 emissions from sources inside and outside of the State. The emissions reductions data in Table 1 demonstrates that NOX, SO2, VOC, and PM2.5 emissions have decreased from Maryland's baseline emissions in 2002 to 2014, the last year for which a comprehensive national emission inventory (NEI) is available.

Table 1—Emissions Reductions in Maryland by Sector in 1,000 Tons per Year (tpy)
Sector | Pollutant | 2002 | 2014 | Percent reductions
Point | NOX | 104.56 | 27.00 | 74
| PM2.5 | 30.16 | 10.90 | 64
| SO2 | 320.76 | 49.43 | 85
| VOC | 12.54 | 4.11 | 67
Non-Road | NOX | 58.35 | 31.13 | 47
| PM2.5 | 4.54 | 2.58 | 43
| SO2 | 16.65 | 4.47 | 73
| VOC | 56.73 | 27.61 | 51
On-Road | NOX | 167.38 | 61.64 | 63
| PM2.5 | 5.79 | 2.15 | 63
| SO2 | 4.96 | 0.52 | 90
| VOC | 65.77 | 30.27 | 54
Area | NOX | 12.79 | 12.64 | 1
| PM2.5 | 16.48 | 11.77 | 29
| SO2 | 11.12 | 5.94 | 47
| VOC | 120.08 | 47.10 | 61

To assess emissions reductions from air pollution control measures being implemented between the baseline period and 2018, MANE-VU developed emissions projections for 2018 for the first round of regional haze SIPs. Section 4 of Maryland's 2017 progress report details emission trends from 2002 to 2014 and compares the trends to MANE-VU's projections of 2018 inventories that were included in Maryland's 2012 regional haze SIP. Maryland asserts in its 2017 progress report and EPA finds that emissions of SO2, NOX, VOC and PM2.5 for all sectors show a downward trend from 2002 through 2014. The 2014 NEI data shows SO2, VOC and PM2.5 emissions significantly below the projected 2018 totals in all categories. NOX emissions declined steeply between 2002 and 2014 largely due to point source and on-road emission reductions. Maryland states in the 2017 progress report that the overall reductions in all pollutants and downward trends far outweigh minimal increases in any sector in years between the baseline and 2018, and the increases do not inhibit the State's ability to improve visibility, reduce emissions of NOX and SO2, and continue to make progress toward the overall regional haze goals. Section 4 of Maryland's 2017 progress report also analyzes emissions in the MANE-VU region. Overall haze-impacting emissions have declined and are projected to continue to decline. Maryland concludes that the general decline in pollutants in the region indicate that changes in anthropogenic emissions have not and will not impede progress to improving visibility or Class I areas meeting their RPGs.

EPA finds Maryland has adequately addressed the provisions under 40 CFR 51.308(g) relating to emission reductions and emission trends. Maryland detailed the SO2 and NOX reductions in Maryland from the 2002 regional haze baseline to 2014, the most recently available year of data at the time of the development of Maryland's 2017 progress report, discussed overall emission trends for all visibility-impacting pollutants, and discussed the implementation of regional haze SIP measures including BART. EPA agrees with Maryland's conclusion that it is reasonable to conclude anthropogenic emissions will not impede progress to improving visibility in the region given the large overall reductions in pollutant emissions, particularly in SO2 emissions in the State and in the Mid-Atlantic region.

The provisions under 40 CFR 51.308(g) also require states with Class I areas within their borders to provide information on current visibility conditions and the difference between current visibility conditions and baseline visibility conditions expressed in terms of five-year averages of those annual values. Maryland does not have any Class I areas; however, the 2017 progress report provided visibility condition data to support the assessment that the regional haze SIP is sufficient to enable other states to meet the RPGs for Class I areas affected by Maryland.

Seven Class I areas in the MANE-VU and Visibility Improvement State and Tribal Association of the Southeast (VISTAS) Regional Planning Organizations (RPOs) ¹⁰ are impacted by sulfate emissions from Maryland's sources, as was stated in the State's 2012 regional haze SIP submission which EPA approved in July 2012.¹¹ 77 FR 39938. The Interagency Monitoring of Protected Visual Environments (IMPROVE) monitoring program provides data on the air pollutants that contribute to regional haze. Maryland's 2017 progress report included IMPROVE visibility data for each Class I area in the region which is impacted by Maryland sources and addresses the progress from the baseline 2000-2004 five-year average visibility to the 2011-2015 five-year average visibility for all affected Class I areas. Table 2 shows IMPROVE visibility data and shows the progress from the baseline period to the most recent averaging period and the RPG for each Class I area.

¹⁰ Maryland was identified as influencing the visibility impairment of the following Class I areas: Acadia National Park, Brigantine National Wildlife Refuge, and Lye Brook Wilderness Area as well as the Dolly Sods Wilderness, Otter Creek Wilderness, and Shenandoah National Park.

¹¹ VISTAS is a collaborative effort of state governments, tribal governments, and various federal agencies established to initiate and coordinate activities associated with the management of regional haze, visibility and other air quality issues in the Southeastern United States. Member States and Tribes include: the States of Alabama, Florida, Georgia, Kentucky, Mississippi, North Carolina, South Carolina, Tennessee, Virginia, and West Virginia and the Eastern Band of the Cherokee Indians.

Table 2—Observed Visibility vs. Reasonable Progress Goals
Class I area IMPROVE site | 2000-2004 5-year average | 2011-2015 5-year average | Met 2018 RPG already? | 2018 RPG
20% Haziest Days
Acadia National Park | 22.9 | 17.4 | Yes | 19.4
Brigantine Wilderness | 29.0 | 22.6 | Yes | 25.1
Great Gulf/Presidential Range-Dry River Wilderness | 22.8 | 16.4 | Yes | 19.1
Lye Brook Wilderness | 24.4 | 18.0 | Yes | 20.9
Moosehorn Wilderness/Roosevelt Campobello International Park | 21.7 | 16.8 | Yes | 19.0
Dolly Sods Wilderness/Otter Creek ¹² | 29.5 | 21.2 | Yes | 21.7
Shenandoah National Park | 29.3 | 20.7 | Yes | 21.9
20% Clearest Days
Acadia National Park | 8.8 | 6.9 | Yes | 8.3
Brigantine Wilderness | 14.3 | 12.0 | Yes | 14.3
Great Gulf/Presidential Range-Dry River Wilderness | 7.7 | 5.7 | Yes | 7.2
Lye Brook Wilderness | 6.4 | 5.3 | Yes | 5.5
Moosehorn Wilderness/Roosevelt Campobello International Park | 9.2 | 6.9 | Yes | 8.6
Dolly Sods Wilderness | 12.3 | 8.2 | Yes | 11.1
Shenandoah National Park | 10.9 | 7.9 | Yes | 8.7

EPA notes the substantial progress made in the IMPOVE visibility data, as the Class I areas affected by emissions from Maryland have already achieved and surpassed the 2018 RPGs set in the first regional haze SIPs in the Mid-Atlantic and Northeast regions. Class I areas affected by emissions from Maryland have current visibility conditions better than baseline conditions and better than RPGs.

¹² The West Virginia 5-year progress report submittal states that the IMPROVE monitor in Dolly Sods is a surrogate for Otter Creek. See 80 FR 32019 (June 5, 2015).

EPA finds Maryland provided the required information regarding visibility conditions and implementation of all measures included in the State's regional haze SIP to meet the requirements under 40 CFR 51.308(g), specifically providing baseline visibility conditions (2000-2004), current conditions based on the most recently available IMPROVE monitoring data (2011-2015), and an assessment of the change in visibility impairment at its Class I areas.

As stated, Maryland does not have any Class I areas; therefore, Maryland is not required to monitor for visibility-impairing pollutants. Maryland's visibility monitoring strategy relies upon Class I areas' participation in the IMPROVE network; however, Maryland stated that it does intend to maintain the IMPROVE site at Frostburg Reservoir. EPA finds Maryland has adequately addressed the requirements for a monitoring strategy for regional haze and finds no further modifications to the monitoring strategy are necessary.

In its 2017 progress report, Maryland concludes the elements and strategies relied on in its regional haze SIP are sufficient to enable neighboring states to meet all established RPGs. As shown in Table 2 above, visibility on least—impaired and most—impaired days from 2000 through 2014 has improved at all Class I areas affected by emissions from Maryland. In addition, all Class I areas impacted by Maryland's emissions have met their RPGs. EPA therefore finds Maryland has adequately addressed the provisions for its progress report in 40 CFR 51.308(g).

B. Determination of Adequacy of Existing Regional Haze Plan

In the 2017 progress report, Maryland submitted a negative declaration to EPA regarding the need for additional actions or emission reductions in Maryland beyond those already in its regional haze SIP to address the requirement for a determination of adequacy in 40 CFR 51.308(h). Maryland determined the existing regional haze SIP requires no further substantive revision at this time to achieve the RPGs for Class I areas affected by the State's sources. The basis for the State's negative declaration is that visibility has improved at all Class I areas impacted by Maryland's sources in the MANE-VU and VISTAS regions. In addition, there has been a significant downward trend in emissions of NOX, SO2, VOC, and PM2.5 from the baseline year for Maryland's regional haze SIP (2002) to the latest emission inventory for Maryland in 2014. In addition, SO2, VOC, and PM2.5 emissions are significantly below the 2018 totals projected in Maryland's 2012 regional haze SIP submittal.

EPA concludes that Maryland has adequately addressed the provisions under 40 CFR 51.308(h) because visibility and emission trends indicate that Class I areas impacted by Maryland's sources are meeting or exceeding the RPGs for 2018, and expect to continue to meet or exceed the RPGs for 2018. Thus, EPA finds Maryland's negative declaration (i.e., that the existing regional haze SIP requires no further substantive revision to achieve goals for visibility improvement and emission reductions) reasonable and in accordance with requirements in 40 CFR 51.308(h).

III. Proposed Action

EPA is proposing to approve Maryland's 2017 progress report, submitted on August 9, 2017, as meeting the applicable CAA requirements in section 110 and meeting regional haze requirements set forth in 40 CFR 51.308(g) and 51.308(h).

IV. Statutory and Executive Order Reviews

Under the CAA, the Administrator is required to approve a SIP submission that complies with the provisions of the CAA and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule to approve Maryland's 2017 progress report does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Intergovernmental relations, Nitrogen dioxide, Particulate matter, Reporting and recordkeeping requirements, Sulfur oxides, Volatile organic compounds.

Authority: 42 U.S.C. 7401 et seq.

Dated: August 15, 2018.
Cosmo Servidio,
Regional Administrator, Region III.

[FR Doc. 2018-18526 Filed 8-24-18; 8:45 am]

BILLING CODE 6560-50-P